Title 3—

The President

Proclamation 8236 of April 10, 2008

Pan American Day and Pan American Week, 2008

By the President of the United States of America

A Proclamation

On Pan American Day and during Pan American Week, we underscore the importance of a peaceful, democratic, and prosperous Western Hemisphere where our common values continue to strengthen friendships, advance freedom, and encourage fair trade.

The love of liberty is deeply rooted in our hemisphere. In the earliest days of our Republic, the people of the United States inspired patriots throughout the Americas to take their own stand for independence. Today, the decent and honorable people of both American continents are united in the desire for freedom and democracy. The United States stands with those who respect human rights and those who seek to bring change and hope to their countries. We look forward to the day when all of the Americas are wholly free and democratic.

My Administration remains committed to helping our friends as they advance the cause of justice and economic opportunity throughout the Western Hemisphere. Through Millennium Challenge Compacts, we support development in countries that govern justly, invest in their people, and promote economic freedom. In addition, the Dominican Republic-Central America-United States Free Trade Agreement, signed in 2005, has opened markets and created opportunities for American businesses, strengthened economic ties with our neighbors to the south, and brought hope to people so that they can better care for themselves and for their families. In December of 2007, I signed the United States-Peru Trade Promotion Agreement Implementation Act to bring economic gains for both of our countries, empower workers, and foster accountability and the rule of law. We seek to build on these successes by working with the Congress to approve the United States-Colombia Trade Promotion Agreement and the United States-Panama Trade Promotion Agreement. These and other free trade agreements enhance prosperity in the United States and signal our firm support for those who share our values of freedom and democracy.

As we recognize Pan American Day and Pan American Week, we will continue to work together to advance our common interests and build a future in which opportunity reaches into every community.

NOW, THEREFORE, I, GEORGE W. BUSH, President of the United States of America, by virtue of the authority vested in me by the Constitution and the laws of the United States, do hereby proclaim April 14, 2008, as Pan American Day and April 13 through April 19, 2008, as Pan American Week. I urge the Governors of the 50 States, the Governor of the Commonwealth of Puerto Rico, and the officials of other areas under the flag of the United States of America to honor these observances with appropriate ceremonies and activities.

IN WITNESS WHEREOF, I have hereunto set my hand this tenth day of April, in the year of our Lord two thousand eight, and of the Independence of the United States of America the two hundred and thirty-second.

[FR Doc. 08-1132

Filed 4-11-08; 9:29 am]

Billing code 3195-01-P